DEPARTMENT OF DEFENSE

Department of the Army

[Docket ID: USA-2008-0056]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on September 11, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: August 6, 2008.
Patricia L. Toppings,
OSD Federal Register Liaison Officer, Department of Defense.

A0055-355b DALO

System Name:

Individual Travel Files (February 22, 1993, 58 FR 10002).

Changes:

* * * * *

Authority for Maintenance of the System:

Delete entry and replace with “10 U.S.C. 704, Duties of Trustee; 10 U.S.C. 3013, Secretary of the Army; Army Regulation 55-355, Defense Traffic Management Regulation and E.O. 9397 (SSN).”

* * * * *

Storage:

Delete entry and replace with “Paper records in file folders and electronic storage media.”

* * * * *

A0055-355b DALO

System Name:

Individual Travel Files.

System Location:

Travel offices at installations, major commands, and Army Staff Agencies.

Categories of Individuals Covered by the System:

Army military (active and reserve) and civilian personnel, U.S. Government personnel assigned to Army and other military installations, their dependents and bona fide members of individual's household, and U.S. personnel traveling under Army sponsorship, including contractors.

Categories of Records in the System:

Documents pertaining to travel of persons on official Government business, and/or their dependents, including but not limited to travel assignment orders, authorized leave en route, availability of quarters and/or shipment of household goods and personal effects, application for passport/visas, the passport authorized travel, security clearance and relevant messages and correspondence. Records may also include clearances for official travel to or within certain foreign countries which may require military theater/area and/or Department of State authorization pursuant to DoD Directive 5000.7 or other established military requirement applying in overseas commands for personal unofficial travel in certain foreign countries.

Authority for Maintenance of the System:

10 U.S.C. 3013, Secretary of the Army; 10 U.S.C. 704, Duties of Trustee; Army Regulation 55-355, Defense Traffic Management Regulation and E.O. 9397 (SSN).

Purpose(s):

To process official travel requests (and personal travel to restricted areas if in overseas commands) for military and civilian personnel; to determine eligibility of individual's dependents to travel; to obtain necessary clearances where foreign travel is involved, including assisting individual in applying for passports and visas and counseling where proposed travel involves visiting/transiting communist countries.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

Information may be disclosed to attaché or law enforcement authorities of foreign countries; to U.S. Department of Justice or Department of Defense legal/intelligence/investigative agencies for security, investigative, intelligence, and/or counterintelligence operations.

The ‘Blanket Routine Uses’ set forth at the beginning of the Army's compilation of systems of records notices also apply to this system.

Policies and Practices for Storing, Retrieving, Accessing, Retaining, and Disposing of Records in the System:

Storage:

Paper records in file folders and electronic storage media.

Retrievability:

By individual's surname.

Safeguards:

Records are maintained in areas accessible only to authorized persons who are properly screened, cleared, and trained. Buildings housing records are either located on controlled access post or otherwise secured when offices are closed.

Retention and Disposal:

Records are retained for 2 years after which they are destroyed by shredding.

System Manager(s) and Address:

The Adjutant General, Headquarters, Department of the Army, 2461 Eisenhower Avenue, Alexandria, VA 22331-0470.

Notification Procedure:

Individuals seeking to determine whether information about themselves is contained in this system should address written inquiries to the Administrative or Personal Services Office at the installation/major command at which travel request/clearance was initiated.

Record Access Procedures:

Individuals seeking access to information about themselves contained in this system should address written inquiries to the appropriate decentralized record custodian.

Individual should provide full name, grade/rank, signature, and details of travel authorization/clearance documents being accessed. Custodian of records may require notarized statement of identity.

Contesting Record Procedures:

The Army's rules for accessing records, and for contesting contents and appealing initial agency determinations are contained in Army Regulation 340-21; 32 CFR part 505; or may be obtained from the system manager.

Record Source Categories:

From the individual requesting travel authorization/clearance; Army records and reports.

Exemptions Claimed for the System:

None.

[FR Doc. E8-18593 Filed 8-11-08; 8:45 am]

BILLING CODE 5001-06-P